DEPARTMENT OF AGRICULTURE

Forest Service

Big Horn County Resource Advisory Committee

AGENCY: Forest Service, USDA.

ACTION: Notice of meeting.

SUMMARY: The Big Horn County Resource Advisory Committee will meet in Greybull, Wyoming. The committee is meeting as authorized under the Secure Rural Schools and Community Self-Determination Act (Pub. L. 112-141) and in compliance with the Federal Advisory Committee Act. The purpose is to hold the sixth meeting and to vote on project proposals.

DATES: The meeting will be held on September 11, 2012 and will begin at 3 p.m.

ADDRESSES: The meeting will be held at the Big Horn County Weed and Pest Building, 4782 Highway 310, Greybull, Wyoming. Written comments about this meeting should be sent to Laurie Walters-Clark, Bighorn National Forest, 2013 Eastside 2nd Street, Sheridan, Wyoming 82801. Comments may also be sent via email to comments-bighorn@fs.fed.us, with the words Big Horn County RAC in the subject line. Facsimilies may be sent to 307-674-2668.

All comments, including names and addresses when provided, are placed in the record and are available for public inspection and copying. The public may inspect comments received at Bighorn National Forest, 2013 Eastside 2nd Street, Sheridan, Wyoming 82801. Visitors are encouraged to call ahead to 307-674-2600 to facilitate entry into the building.

FOR FURTHER INFORMATION CONTACT: Laurie Walters-Clark, RAC Coordinator, USDA, Bighorn National Forest, 2013 Eastside 2nd Street, Sheridan, Wyoming 82801; (307) 674-2627.

Individuals who use telecommunication devices for the hearing impaired may call 1-307-674-2604 between 8 a.m. and 5 p.m., Mountian time, Monday through Friday.

SUPPLEMENTARY INFORMATION: The meeting is open to the public. The following business will be conducted: (1) Introductions, (2) Project reviews, (3) Public Comment; and (4) Project voting for recommendation. Persons who wish to bring related matters to the attention of the Committee may file written statements with the Committee staff before or after the meeting.

Meeting Accommodations: If you are a person requiring resonable accommodation, please make requests in advance for sign language interpreting, assistive listening devices or other reasonable accomodation for access to the facility or procedings by contacting the person listed under FOR FURTHER INFORMATION CONTACT. All reasonable accommodation requests are managed on a case by case basis.

Dated: August 13, 2012.
William T. Bass,
Forest Supervisor.

[FR Doc. 2012-20222 Filed 8-16-12; 8:45 am]

BILLING CODE 3410-11-P